DEPARTMENT OF STATE

[Public Notice 10220]

30-Day Notice of Proposed Information Collection: FLO Professional Development Fellowship (PDF) Application

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to January 12, 2018.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Ramona Sandoval, 2201 C Street NW, Washington, DC, who may be reached on 202-647-1076 or at sandovalrm@state.gov.

SUPPLEMENTARY INFORMATION:

• Title of Information Collection: FLO Professional Development Fellowship (PDF) Application.

• OMB Control Number: None.

• Type of Request: New Collection.

• Originating Office: Bureau of Human Resources, Family Liaison Office (HR/FLO).

• Form Number: DS-4297.

• Respondents: The PDF program is open to spouses and partners of direct-hire U.S. government employees from all agencies serving under Chief of Mission authority at U.S. embassies and consulates overseas.

• Estimated Number of Respondents: 260.

• Estimated Number of Responses: 260.

• Average Time per Response: 2.75 hours.

• Total Estimated Burden Time: 715 annual hours.

• Frequency: Annually.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

FLO needs the information collected in the PDF application to determine who will receive a Professional Development Fellowship. The information is provided to selection committees that use a set of criteria to score the applications. Respondents are spouses and partners of direct-hire U.S. government employees from all agencies serving overseas under Chief of Mission who want to maintain, enhance, and/or develop professional skills while overseas. The information is sought pursuant to 22 U.S.C. 2651a—Organization of the Department of State, 22 U.S.C. 3921—Management of the Foreign Service.

Methodology

Applicants will email the completed application to FLO's PDF program manager.

Susan Frost,
Director, Family Liaison Office, Bureau of Human Resources, Department of State.

[FR Doc. 2017-26827 Filed 12-12-17; 8:45 am]

BILLING CODE 4710-15-P